DEPARTMENT OF ENERGY

Federal Energy Regulatory Commission

[Docket No. RP04-42-000]

Southern Natural Gas Company; Notice of Proposed Changes to FERC Gas Tariff

November 5, 2003.

Take notice that on October 31, 2003, Southern Natural Gas Company (Southern) tendered for filing as part of its FERC Gas Tariff, Seventh Revised Volume No. 1, the following revised tariff sheets to become effective December 1, 2003:

Third Revised Sheet No. 107

Second Revised Sheet No. 108

Original Sheet No. 108A

First Revised Sheet No. 109

First Revised Sheet No. 212I.05

First Revised Sheet No. 212I.06

First Revised Sheet No. 212I.07

Southern states that the goal of the new quality standard is to maximize the availability and utilization of the Southern system without jeopardizing its operational integrity. The new quality standard achieved this goal through the implementation of several new procedures.

Southern has requested to place the new quality standard and related changes into effect on December 1, 2003.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the eFiling link.

Magalie R. Salas,
Secretary.

[FR Doc. E3-00195 Filed 11-12-03; 8:45 am]

BILLING CODE 6717-01-P